SMALL BUSINESS ADMINISTRATION

[License No. 02/72-0610]

Gefus SBIC, L.P.; Notice Seeking Exemption Under Section 312 of the Small Business Investment Act, Conflicts of Interest

Notice is hereby given that Gefus SBIC, L.P., 375 Park Avenue, Suite 2401, New York, NY 10152, a Federal licensee under the Small Business Investment Act of 1958, as amended (“the Act”), in connection with the financing of a small concern, has sought an exemption under section 312 of the Act and section 107.730, Financings which Constitute Conflicts of Interest of the Small Business Administration (“SBA”) rules and regulations (13 CFR 107.730). Gefus SBIC, L.P. proposes to provide equity/debt security financing to Patton Surgical, Inc. The financing is contemplated for operating expenses and for general corporate purposes.

The financing is brought within the purview of § 107.730(a)(1) of the regulations because Admiral Bobby R. Inman, an associate of Gefus SBIC, L.P., owns more than 10 percent of Patton Surgical, Inc.

Notice is hereby given that any interested person may submit written comments on the transaction to the Associate Administrator for Investment, U.S. Small Business Administration, 409 Third Street, SW., Washington, DC 20416.

Dated: February 24, 2004.
Jeffrey Pierson,
Associate Administrator for Investment.

[FR Doc. E4-635 Filed 3-18-04; 8:45 am]

BILLING CODE 8025-01-P